SMALL BUSINESS ADMINISTRATION

[License No. 04/04-0300]

Surrender of License of Small Business Investment Company; Salem Halifax Capital Partners, L.P.

Pursuant to the authority granted to the United States Small Business Administration under the Small Business Investment Act of 1958, as amended, under Section 309 of the Act and Section 107.1900 of the Small Business Administration Rules and Regulations (13 CFR 107.1900) to function as a small business investment company under the Small Business Investment Company License No. 04/04-0300 issued to Salem Halifax Capital Partners, L.P., said license is hereby declared null and void.

United States Small Business Administration.
Bailey DeVries,
Associate Administrator, Office of Investment and Innovation.

[FR Doc. 2021-24687 Filed 11-10-21; 8:45 am]

BILLING CODE P